DEPARTMENT OF COMMERCE

National Oceanic and Atmospheric Administration

[I.D. 040400D]

Western Pacific Fishery Management Council; Public Meeting

AGENCY: National Marine Fisheries Service (NMFS), National Oceanic and Atmospheric Administration (NOAA), Commerce.

ACTION: Notice of public meetings.

SUMMARY: The Western Pacific Regional Fishery Management Council will hold a joint meeting of its Bottomfish Plan Team (BPT), Crustaceans Plan Team and Advisory Panel (CPT/AP), and a joint meeting of its Coral Reef Ecosystem Plan Team, Ecosystem and Habitat Advisory Panel, Bottomfish Plan Team and Advisory Panel, CPT/AP, Precious Corals Plan Team and Advisory Panel, and Native and Indigenous Rights Advisory Panel (joint advisory body meeting). The primary purpose of the joint meeting is to work toward consensus on preferred measures to be included in the coral reef ecosystem fishery management plan and provide direction on how to fully address revisions and requirements.

DATES: The meetings will be held April 25-28, 2000. See SUPPLEMENTARY INFORMATION for specific dates and times.

ADDRESSES: The meetings will be held in Honolulu, Hawaii. See SUPPLEMENTARY INFORMATION for specific locations.

Council address: Western Pacific Fishery Management Council, 1164 Bishop Street, Honolulu, Hawaii, 96813

FOR FURTHER INFORMATION CONTACT: Kitty M. Simonds, Executive Director, Western Pacific Fishery Management Council; (808) 522-0220.

SUPPLEMENTARY INFORMATION:

Meeting Dates, Times, Locations and Agendas

The joint advisory bodies will discuss and may make recommendations to the Council on the agenda items listed here. The order in which agenda items will be addressed is tentative.

Tuesday, April 25, 2000, from 9:00-5:00 p.m.—BPT meeting jointly with CPT/AP

Location: Western Pacific Fishery Management Council office conference rooms, 1164 Bishop Street, Honolulu, Hawaii, 96813 (808) 522-0220.

1. Environmental Impact Statements (EISs) for Bottomfish and Crustaceans Fishery Management Plans (FMPs)

2. Addition of Commonwealth of the Northern Mariana Islands and Pacific Remote Island Areas to Crustaceans FMP.

A. Management Unit Species (MUS) to be included

B. Initial management measures

C. Other issues

3. Bycatch reporting (Sustainable Fisheries Act (SFA) requirement).

Tuesday, April 25, 2000, at 10:30 a.m.—CPT/AP and BPT meet separately

Location: Western Pacific Fishery Management Council office conference rooms, 1164 Bishop Street, Honolulu, Hawaii, 96813 (808) 522-0220.

BPT

1. Amendments and framework actions

A. Mau zone new entry criteria

B. Coral Reef Plan permitting measures

(i) Non-managed species in Northwestern Hawaiian Islands (NWHI) caught in bottomfish fishery

(ii) Non-managed species in main Hawaiian Islands caught in bottomfish fishery

2. Annual Report review and development of research plan for bottomfish fisheries

A. Review Status of 1998 Annual Report Recommendations

B. Identify problems and possible solutions for uncompleted recommendations

C. Review 1999 Annual Report modules and recommendations

(i) American Samoa

(ii) Guam

(iii) Hawaii

(iv) Northern Mariana Island

D. 1999 Annual Report region-wide recommendations

E. Research plan for Western Pacific Region bottomfish fisheries

(i) Review other bottomfish research needs (annual report recommendations, program planning, NMFS, etc.)

(ii) Consider new information needs and develop recommendations

(iii) Prioritize research needs and recommendations

3. Other business

CPT/AP

1. Stock Assessment and Fishery Economics Report

A. 1999 Annual Report

B. Strategy for future stock assessments

2. 2000 lobster harvest guideline

3. Research plans

A. Industry-NMFS cooperative research agreement

B. NMFS plan for lobster tagging

C. Other comprehensive research needed

4. Consideration of amendment to replace NWHI lobster assessment model

A. Review of Council action

B. Aspects for developing a fully integrated dynamic model

C. Proposed amendment options/schedule

D. Five-year review (due June 2001)

5. Possible additions to Crustaceans MUS (e.g., shrimp, red crab)

6. Revision to address SFA overfishing requirements

7. Other business

8. Summary of recommendations

Wednesday, April 26, 2000, from 9:00 a.m.-5:00 p.m.—Joint advisory body meeting

Location: Pagoda Hotel International Ballroom, 1525 Rycroft Street, Honolulu, Hawaii; (808) 941-6611.

1. Summary of Council's modified preferred alternative for draft Coral Reef Ecosystem FMP/preliminary draft environmental impact statement

A. Fishing permit and reporting requirements

B. Allowable fishing gear and methods

C. Marine Protected Areas (MPAs)

D. Framework actions

E. Formal process for PT coordination

2. Review of impacts or concerns regarding existing FMP fisheries and coral reefs (habitat, protected species, ecosystem, other)

A. Bottomfish

B. Crustaceans

C. Precious Corals

D. Indigenous rights

3. Review of previous advisory body recommendations on draft FMP

A. MPAs (location, size, restrictions)

B. Allowable gear/use

C. Permit and reporting requirements

D. Framework actions

E. MUS

F. SFA/Essential Fish Habitat(EFH)

G. Other

4. Discussion toward consensus on preferred measures

A. Permit & reporting/report form/MUS

B. Gear/methods

C. MPAs: location/boundaries/restrictions

D. Framework actions/additions

E. SFA/EFH/Habitat Areas of Particular Concern

F. Research plans

G. Process for PT coordination

Thursday, April 27, 2000, from 8:30 a.m.-12:00 noon—joint advisory body meeting

Location: Pagoda Hotel East Ballroom, 1525 Rycroft Street, Honolulu, Hawaii; (808) 941-6611.

Continue discussion toward consensus on preferred measures

Thursday, April 27, 2000, from 1:30-5:00 p.m.—Coral Reef Plan Team and Ecosystems & Habitat Advisory Panel, BPT and Advisory Panel, CPT/AP, Precious Corals Plan Team and Advisory Panel, and Native and Indigenous Rights Advisory Panel, meeting separately

Location: Western Pacific Fishery Management Council office conference rooms, 1164 Bishop Street, Honolulu, Hawaii, 96813 (808) 522-0220.

Further discussion of issues from above

Friday, April 28, 2000, from 8:30-5:00 p.m.—Separate meetings: each advisory body meets separately (or joint Plan Team and Advisory Panel)

Location: Western Pacific Fishery Management Council office conference rooms, 1164 Bishop Street, Honolulu, Hawaii, 96813 (808) 522-0220.

1. Final discussion and recommendations to Council on above issues

2. Other business

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds (see FOR FURTHER INFORMATION CONTACT) at least 5 days prior to the meeting dates.

Dated: April 5, 2000.
Bruce C. Morehead,
Acting Director, Office of Sustainable Fisheries, National Marine Fisheries Service.

[FR Doc. 00-8941 Filed 4-10-00; 8:45 am]

BILLING CODE 3510-22-F